DEPARTMENT OF THE INTERIOR

Bureau of Land Management

[CA-310-0777-XG]

Notice of Public Meeting: Northwest California Resource Advisory Council

AGENCY: Bureau of Land Management, Interior.

ACTION: Notice of public meeting.

SUMMARY: In accordance with the Federal Land Policy and Management Act of 1976 (FLPMA), and the Federal Advisory Committee Act of 1972 (FACA), the U. S. Department of the Interior, Bureau of Land Management (BLM) Northwest California Resource Advisory Council will meet as indicated below.

DATES: The meeting will be held Thursday and Friday, Nov. 20 and 21, at the Woodland Public Library, 250 First St., Woodland, Calif. On Nov. 20, the RAC will convene at 10 a.m. for a tour of public lands in the Cache Creek Natural Area. On Nov. 21, the council convenes at 8 a.m. at the Woodland Library.

FOR FURTHER INFORMATION CONTACT: Lynda Roush, BLM Arcata Field Office manager, (707) 468-4000; or BLM Public Affairs Officer Joseph J. Fontana, (530) 252-5332.

SUPPLEMENTARY INFORMATION: The 12-member council advises the Secretary of the Interior, through the BLM, on a variety of planning and management issues associated with public land management in Northwest California. At this meeting, agenda topics include discussion of the Recreation and Public Purposes Act, discussion about RAC travel schedules, a status report on the north coast geotourism initiative, an overview of fire impacts on public lands, and status reports from the managers of the Alturas, Redding and Ukiah field offices. All meetings are open to the public. Members of the public may present written comments to the council. Each formal council meeting will have time allocated for public comments. Depending on the number of persons wishing to speak, and the time available, the time for individual comments may be limited. Members of the public are welcome on field tours, but they must provide their own transportation and lunch. Individuals who plan to attend and need special assistance, such as sign language interpretation and other reasonable accommodations, should contact the BLM as provided above.

Dated: September 5, 2008.
Joseph J. Fontana,
Public Affairs Officer.

[FR Doc. E8-21334 Filed 9-11-08; 8:45 am]

BILLING CODE 4310-40-P